DEPARTMENT OF THE INTERIOR

National Park Service

Notice of Inventory Completion: U.S. Department of the Interior, U.S. Fish and Wildlife Service, Region 7, Anchorage, AK

AGENCY: National Park Service, Interior.

ACTION: Notice.

Notice is here given in accordance with the Native American Graves Protection and Repatriation Act (NAGPRA), 25 U.S.C. 3003, of the completion of an inventory of human remains in the possession of the U.S. Department of the Interior, U.S. Fish and Wildlife Service, Region 7, Anchorage, AK. The human remains were removed from Amchitka Island, AK.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by U.S. Fish and Wildlife Service, Region 7 professional staff and forensic anthropologists from the Alaska State Office of History and Archaeology, in consultation with representatives of the the Aleut Corporation, Atxam Corporation, and Native Village of Atka.

In 1980, human remains representing a minimum of one individual were removed from an eroding midden site on Amchitka Island, in the Aleutian Islands Unit of the Alaska Maritime National Wildlife Refuge, AK, by a seasonal refuge employee. The human remains were removed to prevent them from being destroyed or stolen during construction activity. No known individual was identified. No funerary objects are present.

There are no radiocarbon dates available for the human remains. Midden sites began to appear approximately 3,000 years ago in the Aleutian Islands. The human remains were found in the upper levels of the site and likely date to the Late Prehistoric period, possibly no earlier than A.D. 1000.

The burial context and physical traits of the human remains are consistent with those observed for precontact Aleut populations. Skeletal morphology of present-day Aleut populations is similar to that of prehistoric populations, and demonstrates biological and cultural affiliation between present-day Aleut groups and prehistoric populations in the Aleutian Islands.

Historical records demonstrate a cultural affiliation between the late prehistoric populations on Amchitka Island and the Atxam Corporation and the Native Village of Atka. After Russian contact with the Rat Islands, to which Amchitka Island belongs, began in 1751, the population declined precipitously. By the 1790s, the Rat Islands populations were concentrated on Kiska and Amchitka Islands, and the Russians removed most of the Rat Islands Aleuts to Atka Island in the Andreanof Islands in the central Aleutian Island chain. By 1812, the survivors were returned to Amchitka Island. By 1832, inhabitants of the Rat Islands were again moved to Atka Island or to the Commander Islands, and the Rat Islands, including Amchitka, were never permanently re-occupied. Amchitka Island continued to be used by the people of Atka Island as a hunting ground. In 1920, the Native residents of Atka Island leased Amchitka Island for fox farming. The lease was renewed in 1929 by the Atka Village Community. Atka Island residents continued to use Amchitka Island until the Japanese invasion of the western Aleutians in 1942 during World War II. Aleut Atka residents are represented by the Native Village of Akta and Atxam Corporation.

Officials of the U.S. Fish and Wildlife Service, Region 7 have determined that, pursuant to 25 U.S.C. 3001, (9-10), the human remains listed above represent the physical remains of one individual of Native American ancestry. Officials of the U.S. Fish and Wildlife Service, Region 7 also have determined that, pursuant to 25 U.S.C. 3001 (2), there is a relationship of shared group identity that can be reasonably traced between the Native American human remains and the Atxam Corporation and the Native Village of Atka.

Representatives of any other Indian tribe that believes itself to be culturally affiliated with the human remains should contact Debra Corbett, U.S. Fish and Wildlife Service, 1011 East Tudor Road, Anchorage, AK 99503, telephone (907) 786-3399, before December 31, 2003. Repatriation of the human remains to the Atxam Corporation and the Native Village of Atka may proceed after that date if no additional claimants come forward.

The U.S. Fish and Wildlife Service, Region 7 is responsible for notifying the Aleut Corporation, Atxam Corporation, and the Native Village of Atka that this notice has been published.

Dated: September 17, 2003.
John Robbins,
Assistant Director, Cultural Resources.

[FR Doc. 03-29773 Filed 11-28-03; 8:45 am]

BILLING CODE 4310-50-S